SOCIAL SECURITY ADMINISTRATION

[Docket No. SSA-2010-0049]

Notice of Senior Executive Service Performance Review Board Membership

AGENCY: Social Security Administration.

ACTION: Notice of Senior Executive Service Performance Review Board Membership.

Title 5, U.S. Code, 4314(c)(4), requires that the appointment of Performance Review Board members be published in the Federal Register before service on said Board begins.

The following persons will serve on the Performance Review Board which oversees the evaluation of performance appraisals of Senior Executive Service members of the Social Security Administration:

Sean Brune

JoEllen Felice

Brad Flick*

Alan Heim

Pete Herrera

Bonnie Kind

Eileen McDaniel

Steven Patrick

Roy Snyder

Tina Waddell

Daryl Wise

Sheryll Ziporkin*

*New member.

Dated: August 4, 2010.
Reginald F. Wells,
Deputy Commissioner for Human Resources.

[FR Doc. 2010-19639 Filed 8-9-10; 8:45 am]

BILLING CODE 4191-02-P